DEPARTMENT OF THE INTERIOR

National Park Service

[NPS-WASO-NAGPRA-NPS0037459; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice. The human remains and associated funerary objects were removed from Cross and Poinsett Counties, AR.

DATES: Repatriation of the human remains and associated funerary objects in this notice may occur on or after March 27, 2024.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, seven individuals were removed from Stanley Mounds, also known as the Parkin Site (state site number 3CS29; Parkin Phase) in Cross County, AR in 1879 as part of a Peabody Museum of Archaeology and Ethnology expedition led by Edwin Curtiss. The 42 associated funerary objects include: 39 lots consisting of ceramic vessel or vessel fragments and three lots consisting of faunal items.

Human remains representing, at minimum, 10 individuals were removed from Fortune Mounds (state site number 3CS71; Parkin Phase) in Cross County, AR in 1880 as part of a Peabody Museum of Archaeology and Ethnology expedition led by Edwin Curtiss. The 16 associated funerary objects include 11 lots consisting of ceramic vessel or vessel fragments; one lot consisting of copper items; and four lots consisting of faunal items.

Human remains representing, at minimum, three individuals were removed from Halcomb's Mounds (state site number 3CS28; Parkin Phase) in Cross County, AR in 1880 as part of a Peabody Museum of Archaeology and Ethnology expedition led by Edwin Curtiss. The two associated funerary objects include one lot consisting of ceramic vessel or vessel fragments, and one lot consisting of a copper item.

Human remains representing, at minimum, 54 individuals were removed from Neeley's Ferry Mounds (state site number 3CS24; Parkin Phase) in Cross County, AR in 1880 as part of a Peabody Museum of Archaeology and Ethnology expedition led by Edwin Curtiss. The 66 associated funerary objects include: one lot consisting of ceramic items; 53 lots consisting of ceramic vessel or vessel fragments; eight lots consisting of faunal items; one lot consisting of red pigment; two lots consisting of stone items; and one lot consisting of stone or coal fragment.

Human remains representing, at minimum, two individuals were removed from Robinson's Mound (Parkin Phase) in Cross County, AR in 1880 as part of a Peabody Museum of Archaeology and Ethnology expedition led by Edwin Curtiss. The two associated funerary objects are one lot consisting of ceramic vessel or vessel fragments and one lot consisting of faunal bones and vessel fragments.

Human remains representing, at minimum, 52 individuals were removed from Rose Mound (state site number 3CS27; Parkin Phase) in Cross County, AR in 1880 as part of a Peabody Museum of Archaeology and Ethnology expedition led by Edwin Curtiss. The 73 associated funerary objects include: one lot consisting of a ceramic item(s); 51 lots consisting of ceramic vessel or vessel fragments; one lot consisting of a clay item; one lot consisting of a copper item; 13 lots consisting of faunal items; and six lots consisting of stone items.

Human remains representing, at minimum, one individual was removed from Hazel (state site number 3PO6) in Poinsett County, AR in 1970 by Jeffry P. Brain and Stephen Williams as part of the Lower Mississippi Survey Expedition. At that time, the Survey Expedition was a project of Harvard University. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, folklore, geographical information, historical information, kinship, linguistics, oral tradition, other relevant information, or expert opinion.

Determinations

Pursuant to NAGPRA and its implementing regulations, and after consultation with the appropriate Indian Tribes and Native Hawaiian organizations, the PMAE has determined that:

• The human remains described in this notice represent the physical remains of 129 individuals of Native American ancestry.

• The 201 objects described in this notice are reasonably believed to have been placed with or near individual human remains at the time of death or later as part of the death rite or ceremony.

• There is a relationship of shared group identity that can be reasonably traced between the human remains and associated funerary objects described in this notice and the Quapaw Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2024. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 16, 2024.
Melanie O'Brien,
Manager, National NAGPRA Program.

[FR Doc. 2024-03803 Filed 2-23-24; 8:45 am]

BILLING CODE 4312-52-P